DEPARTMENT OF TRANSPORTATION

Surface Transportation Board

[STB Ex Parte No. 693]

Oral Argument

AGENCY: Surface Transportation Board, DOT.

ACTION: Notice of oral argument.

SUMMARY: By a decision served on November 3, 2009, the Board announced that it will hold oral arguments in two cases: STB Finance Docket No. 35225, San Benito Railroad LLC-Acquisition Exemption-Certain Assets of Union Pacific Railroad Company (San Benito RR); and STB Docket No. 42114, US Magnesium, L.L.C. v. Union Pacific Railroad Company (USM v. UP).

Dates/Location: The oral arguments will take place on Monday, November 23, 2009, at 9:30 a.m., in the Board's hearing room at the Board's headquarters located at 395 E Street, SW., Washington, DC. By November 19, 2009, the parties should submit to the Board the name of the counsel who will be presenting argument, the party counsel will be representing, and the requested time reserved for rebuttal if the party is the movant or complainant.

FOR FURTHER INFORMATION CONTACT: Valerie Quinn, (202) 245-0382. Assistance for the hearing impaired is available through the Federal Information Relay Service (FIRS) at 1-800-877-8339.

SUPPLEMENTARY INFORMATION: In STB Finance Docket No. 35225, San Benito Railroad LLC (San Benito), a noncarrier, has filed a verified notice of exemption to acquire from Union Pacific Railroad Company (UP) certain railroad assets, including approximately 12.43 miles of rail line extending between approximately milepost 0.7 (near Hollister, CA) and approximately milepost 12.50 (near Carnadero, CA) in San Benito County. San Benito simultaneously filed a motion to dismiss the notice of exemption. San Benito seeks a determination from the Board that it would not become a common carrier and that the Board would not have jurisdiction over the proposed acquisition because the parties have structured the transaction pursuant to the terms and conditions of the Interstate Commerce Commission's decision in State of Maine-Acq. and Op. Exempt., 8 I.C.C. 2d 935 (1991) (State of Maine), and subsequent Board decisions addressing State of Maine.

The Brotherhood of Maintenance of Way Employees Division/IBT and the Brotherhood of Railroad Signalmen (collectively “Unions”) filed a response in opposition to San Benito's motion to dismiss. The Unions argue that State of Maine was wrongly decided and must be overturned because it is contrary to the Interstate Commerce Act. The Board will hear argument on the motion to dismiss the notice of exemption.

In STB Docket No. 42114, US Magnesium, L.L.C. (USM), has filed a complaint challenging the reasonableness of rates charged by Union Pacific Railroad Company (UP) for the movement of chlorine by tank car from: (1) Rowley, UT, to Eloy, AZ; and (2) Rowley to Sahuarita, AZ. USM seeks relief pursuant to the simplified procedures set forth in Simplified Standards for Rail Rate Cases, STB Ex Parte No. 646 (Sub-No. 1) (STB served Sept. 5, 2007). USM has elected to utilize the Three-Benchmark method, under which the total available rate relief is limited to $1 million over a 5-year period. UP has answered the complaint and both parties have submitted their evidence. The Board will hold an oral argument on this rate complaint.

The STB requests that all persons attending the hearing use the Patriots Plaza Building's main entrance at 395 E Street, SW. (closest to the northeast corner of the intersection of 4th and E Streets). There will be no reserved seating, except for those scheduled to present oral arguments. The building will be open to the public at 7 a.m., and participants are encouraged to arrive early. There is no public parking in the building. The oral arguments will be open for public observation, but only counsel for the parties will be permitted to present argument. A video broadcast of the oral argument will be available via the Board's Web site at http://www.stb.dot.gov, under “Information Center”/“Webcast”/“Live Video” on the home page.

Additional information is contained in the Board's decision. A copy of the Board's decision is available for inspection or copying at the Board's Public Docket Room, Room 131, 395 E Street, SW., Washington, DC 20423-0001, and is posted on the Board's Web site, http://www.stb.dot.gov.

This action will not significantly affect either the quality of the human environment or the conservation of energy resources.

Decided: November 3, 2009.
By the Board, Anne K. Quinlan, Acting Secretary.
Jeffrey Herzig,
Clearance Clerk.

[FR Doc. E9-26799 Filed 11-5-09; 8:45 am]

BILLING CODE 4915-01-P